DEPARTMENT OF COMMERCE

National Oceanic and Atmospheric Administration

RIN 0648-XK12

Atlantic Pelagic Longline Take Reduction Team Meeting

AGENCY: National Marine Fisheries Service (NMFS), National Oceanic and Atmospheric Administration (NOAA), Commerce.

ACTION: Notice of public meeting.

SUMMARY: NMFS is convening a meeting of the Atlantic Pelagic Longline Take Reduction Team (PLTRT). The PLTRT will discuss the proposed Atlantic Pelagic Longline Take Reduction Plan (RIN 0648-AV65) and provide updates to team members on recent research and actions.

DATES: The meeting will be held on September 8, 2008, from 1 p.m. to 6 p.m., and on September 9, 2008, from 8:30 a.m. to 5:15 p.m.

ADDRESSES: The PLTRT meeting will be held at the Pier 5 Hotel, 711 Eastern Avenue, Baltimore, MD 21202. Phone: (410) 539-2000, Fax: (410) 783-1469.

FOR FURTHER INFORMATION CONTACT: Erin Fougeres: (727) 824-5312 or Kristy Long: (301) 713-2322.

SUPPLEMENTARY INFORMATION:

Bycatch Reduction Requirements in the MMPA

Section 118(f)(1) of the Marine Mammal Protection Act (MMPA) requires NMFS to develop and implement take reduction plans to assist in the recovery or prevent the depletion of each strategic marine mammal stock that interacts with Category I and II fisheries. It also provides NMFS discretion to develop and implement a take reduction plan for any other marine mammal stocks that interact with a Category I fishery, which the agency determines, after notice and opportunity for public comment, has a high level of mortality and serious injury across a number of such marine mammal stocks.

The MMPA defines a strategic stock as a marine mammal stock: (1) for which the level of direct human-caused mortality exceeds the potential biological removal (PBR) level; (2) which is declining and is likely to be listed under the Endangered Species Act (ESA) in the foreseeable future; or (3) which is listed as threatened or endangered under the ESA or as a depleted species under the MMPA (16 U.S.C. 1362(2)). PBR is the maximum number of animals, not including natural mortalities, that can be removed annually from a stock, while allowing that stock to reach or maintain its optimum sustainable population level. Category I or II fisheries are fisheries that, respectively, have frequent or occasional incidental mortality and serious injury of marine mammals. The immediate goal of a take reduction plan for a strategic stock is to reduce, within six months of its implementation, the incidental serious injury or mortality of marine mammals from commercial fishing to levels less than PBR. The long-term goal is to reduce, within five years of its implementation, the incidental serious injury and mortality of marine mammals from commercial fishing operations to insignificant levels approaching a zero serious injury and mortality rate, taking into account the economics of the fishery, the availability of existing technology, and existing state or regional fishery management plans. The insignificance threshold, or upper limit of annual incidental mortality and serious injury of marine mammal stocks by commercial fisheries, has been defined at 50 CFR 229.2 as 10 percent of the PBR for a stock of marine mammals.

History of the PLTRT

The PLTRT was first convened on June 29, 2005 (70 FR 36120, June 22, 2005) to address the incidental serious injury and mortality of short- and long-finned pilot whales (Globicephala macrorhynchus and Globicephala melas) in the Atlantic region of the Pelagic Longline Fishery. Because the two species of pilot whales are difficult to differentiate at sea, abundance and total fishery-related mortality and serious injury cannot be estimated separately for each species. Therefore, in the U.S. Atlantic and Gulf of Mexico, these estimates are combined for both Globicephala species (i.e., Globicephala spp.). Globicephala spp. is then split into the western North Atlantic and Gulf of Mexico stocks. The western North Atlantic stocks of Globicephala spp. were identified as strategic in the 2003 Marine Mammal Stock Assessments report (SAR). However, NMFS revised the abundance estimates for pilot whales in the 2005 SAR and, just prior to convening the PLTRT, these stocks were no longer classified as strategic. More recently, the 2007 SAR also reports that the estimated average annual human-related mortality and serious injury for the last five years does not exceed PBR and the stocks remain non-strategic.

The Atlantic Pelagic Longline Fishery also incidentally seriously injures and kills Risso's dolphins (Grampus griseus). For Risso's dolphins and long-finned and short-finned pilot whales, estimated serious injury and mortality levels in the pelagic longline fishery exceed the insignificance threshold but do not exceed the PBR level for each stock. Because these species are below PBR and considered non-strategic stocks but interact with a Category I fishery, NMFS directed the PLTRT to develop and submit a draft Take Reduction Plan to the agency within 11 months. In accordance with the long-term goal of MMPA section 118, this draft Take Reduction Plan would focus on reducing incidental mortalities and serious injuries of pilot whales and Risso's dolphins to a level approaching a zero mortality and serious injury rate within five years of implementation of the plan.

As required under section 118 (f)(8) of the MMPA, the PLTRT developed a draft Take Reduction Plan (TRP) by consensus, and submitted this draft to NMFS. NMFS then published the TRP and implementing regulations proposed by the team in the Federal Register on June 24, 2008 (73 FR 35623) for a public comment period of 90 days, ending on September 22, 2008. NMFS is convening a meeting of the PLTRT during the public comment period, which will be facilitated by Scott McCreary and Bennett Brooks, CONCUR, Inc., Berkeley, California. This meeting will occur September 8-9, 2008 in Baltimore, MD (see DATES and ADDRESSES). Take Reduction Teams are not subject to the Federal Advisory Committee Act (5 U.S.C. App.). Meetings are open to the public.

Dated: August 27, 2008.
Helen Golde,
Deputy Director, Office of Protected Resources, National Marine Fisheries Service.

[FR Doc. E8-20419 Filed 9-2-08; 8:45 am]

BILLING CODE 3510-22-S